DEPARTMENT OF THE INTERIOR

Bureau of Land Management

[BAC 4331-11]

Notice of Public Meetings of the Idaho Resource Advisory Council

AGENCY: Bureau of Land Management, Interior.

ACTION: Notice of public meeting.

SUMMARY: In accordance with the Federal Land Policy and Management Act of 1976 and the Federal Advisory Committee Act of 1972, the U.S. Department of the Interior, Bureau of Land Management's (BLM) Idaho Resource Advisory Council (RAC) will meet as indicated below.

DATES: The BLM Idaho RAC will meet on Wednesday, November 10, 2021. The meeting will be held from 9:00 a.m. to 5:00 p.m. (Mountain Standard Time). The RAC will also meet on Wednesday, February 16, 2022. The meeting will be held from 9:00 a.m. to 5:00 p.m. (Mountain Standard Time). Public comment periods will be offered during both meetings.

ADDRESSES: The November 10, 2021, meeting will be held virtually. The February 11, 2022, meeting will be held at the BLM Twin Falls District Office, 2878 Addison Avenue East, Twin Falls, Idaho 83301. If COVID restrictions remain in place, the February meeting will be held virtually. Virtual participation information will be posted online two weeks in advance of each meeting at https://www.blm.gov/get-involved/resource-advisory-council/near-you/idaho.

FOR FURTHER INFORMATION CONTACT: MJ Byrne, 1387 South Vinnell Way, Boise, Idaho 83709; (208) 373-4006; mbyrne@blm.gov. Persons who use a telecommunications device for the deaf (TDD) may call the Federal Relay Service (FRS) at 1-800-877-8339 to contact Ms. Byrne during normal business hours. The FRS is available 24 hours a day, 7 days a week, to leave a message or question with the above individual. You will receive a reply during normal business hours.

SUPPLEMENTARY INFORMATION: The Idaho RAC is chartered, with 15 members appointed by the Secretary of the Interior and representing commodity, non-commodity, and local interests. The RAC serves in an advisory capacity to BLM officials concerning issues relating to land use planning and management of public land resources located within the State of Idaho.

Agenda items for the November meeting include State and District Office updates and presentations on mining, wildfires and emergency stabilization and rehabilitation, recreation and access management, land tenure adjustments, and any other business that may reasonably come before the RAC. Agenda items for the February meeting include State and District Office updates and presentations on livestock grazing, rangeland restoration, and cultural resources management. Agenda topics for the February meeting will be formalized at the conclusion of the November meeting.

Final agendas will be posted online two weeks in advance of each meeting at https://www.blm.gov/get-involved/resource-advisory-council/near-you/idaho. All meetings are open to the public in their entirety. Information to be distributed to the RAC is requested before the start of each meeting. Public comment periods will be held near the end of each day of the meetings. Depending on the number of persons wishing to speak and the time available, the time for individual comments may be limited. Comments can be mailed to BLM Idaho State Office; Attn: MJ Byrne; 1387 South Vinnell Way; Boise, ID 83709. All comments received will be provided to the Idaho RAC members.

Before including your address, phone number, email address, or other personal identifying information in your comments, please be aware that your entire comment—including your personal identifying information—may be made publicly available at any time. While you can ask us in your comment to withhold your personal identifying information from public review, we cannot guarantee we will be able to do so.

Authority: 43 CFR 1784.4-2.

Peter Ditton,
Acting Idaho State Director.

[FR Doc. 2021-20736 Filed 9-23-21; 8:45 am]

BILLING CODE 4331-11-P